Title 3—

The President

Proclamation 10515 of January 20, 2023

50th Anniversary of the Roe v. Wade Decision

By the President of the United States of America

A Proclamation

Fifty years ago, on January 22, 1973, the Supreme Court issued its landmark 7-2 decision in Roe v. Wade, protecting a woman's constitutional right to choose. This case reaffirmed basic principles of equality, reinforced the fundamental right to privacy, and resolved that women in this country could control their own destinies—making deeply personal decisions free from political interference.

The Court got Roe right 50 years ago. It was a balanced decision with broad national consensus that the majority of Americans have continued to support for the last 50 years. And it was a constitutional principle upheld by justices appointed by Democratic and Republican Presidents alike.

But 7 months ago, a conservative majority on the Supreme Court overturned Roe. Never before has the Court taken away a right so fundamental to Americans. In doing so, it put the health and lives of women across this Nation at risk. The Supreme Court opened the door for new challenges to other fundamental freedoms, including access to contraception and the right to marry whom you love. Millions of women now live in States with extreme bans on abortion, many without exceptions for rape and incest, or, where doctors can be jailed for providing reproductive care. Today, trailblazers who fought heroically for the Roe v. Wade decision are watching the next generation grow up without its protections.

On what would have been the 50th anniversary of protections under Roe v. Wade, my Administration is resolute in its commitment to defending reproductive rights and continuing our Nation's progress toward equality for all. In response to the Court's extreme Dobbs v. Jackson Women's Health Organization decision, I issued Executive Orders to ensure that patients receive care during medical emergencies; to protect access to contraception and abortion services, including access to medication approved by the Food and Drug Administration; and to improve the safety of patients, providers, and clinics. My Administration is helping to safeguard patients' privacy over their health data and is ensuring that women everywhere have access to accurate information about their reproductive rights. I also created an Interagency Task Force on Reproductive Healthcare Access to lead our Government-wide response. And senior Administration leaders, including Vice President Kamala Harris, have traveled the country listening to women, health care providers, legal experts, and State and local officials to ensure that our efforts are reaching those most in need of support.

Since the Court's decision to overturn Roe, Americans across the country—from California to Kansas to Michigan—have made clear at the ballot box that they believe the right to choose is fundamental and should be preserved. Still, we know that the only way to truly secure the right to choose is for the Congress to codify the protections of Roe v. Wade. I continue to call on the Congress to pass legislation to make those protections the law of the land once and for all. Until then, I will continue to use my Executive authority to protect women and families from harm in the wake of the Dobbs decision.

NOW, THEREFORE, I, JOSEPH R. BIDEN JR., President of the United States of America, by virtue of the authority vested in me by the Constitution and the laws of the United States, do hereby proclaim January 22, 2023, as the 50th Anniversary of the Roe v. Wade Decision. I call upon Americans to honor generations of advocates who have fought for reproductive freedom, to recognize the countless women whose lives and futures have been saved and shaped by the Roe v. Wade decision, and to march forward with purpose as we work together to restore the right to choose.

IN WITNESS WHEREOF, I have hereunto set my hand this twentieth day of January, in the year of our Lord two thousand twenty-three, and of the Independence of the United States of America the two hundred and forty-seventh.

[FR Doc. 2023-01599

Filed 1-24-23; 8:45 am]

Billing code 3395-F3-P